NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 5, 2001. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@nara.gov. Requesters must cite the control number, which appears in parentheses after the name of the agency which submitted the schedule, and must provide a mailing address. Those who desire appraisal reports should so indicate in their request.

FOR FURTHER INFORMATION CONTACT: Michael Miller, Director, Modern Records Programs (NWM), National Archives and Records Administration, 8601 Adelphi Road, College Park, MD 20740-6001. Telephone: (301) 713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-00-42, 8 items, 8 temporary items). Short-term records relating to committees, review boards, the Army Band, and historical activities. Included are such records as committee management files, records of the Civilian-contractual Service Review Board and the Army Discharge Review Board, files relating to band technical inspections, musical compositions, and notes, copies of documents, drafts, and other records accumulated by agency historians. Also included are electronic copies of documents created using electronic mail and word processing. This schedule allows the agency to expedite disposal of these records, which were previously approved for disposal. It also authorizes the agency to apply the proposed disposition instructions to any recordkeeping medium.

2. Department of Justice, Office of Intergovern-mental Affairs (N1-60-01-3, 4 items, 4 temporary items). Subject files, records relating to short-term issues, and records pertaining to event-planning and services provided other offices and the White House. Also included are electronic copies of documents created using electronic mail and word processing.

3. Department of Justice, Bureau of Prisons (N1-129-01-13, 5 items, 5 temporary items). Records of the Inmate Systems Branch. Included are such records as chrono-logical files, case files and other records relating to inmates seeking credit for time served in foreign jails, congressional correspondence, and policy working files. Also included are electronic copies of documents created using electronic mail and word processing.

4. Department of Justice, Bureau of Prisons (N1-129-01-14, 8 items, 6 temporary items). Records of the Religious Services Branch. Included are such records as correspondence with advocacy groups, chronological files, subject files, and files relating to new chaplains' training. Also included are electronic copies of documents created using electronic mail and word processing. Proposed for permanent retention are recordkeeping copies of annual reports and newsletters.

5. Department of Justice, Bureau of Prisons (N1-129-01-15, 7 items, 7 temporary items). Records of the Correctional Programs Branch. Included are such records as drafts of congressional correspondence, notifications provided to victims and witnesses concerning changes in inmate status, reference copies of memoranda, program statement working files, and case files on inmates managed by the agency's Witness Protection Unit. Also included are electronic copies of documents created using electronic mail and word processing.

6. Department of Justice, Bureau of Prisons (N1-129-01-16, 3 items, 3 temporary items). Records of the Special Needs Offenders Coordinator Branch consisting of subject files and training files. Also included are electronic copies of documents created using electronic mail and word processing.

7. Department of Justice, Bureau of Prisons (N1-129-01-17, 13 items, 10 temporary items). Records of the Correctional Services Branch. Included are such records as incident reports, field reports, reference files, training files, subject files, disruptive group files, and intelligence incident case files. Also included are electronic copies of documents created using electronic mail and word processing. Recordkeeping copies of after action reviews and publications are proposed for permanent retention.

8. Department of Justice, Bureau of Prisons (N1-129-01-18, 5 items, 5 temporary items). Records of the Office of the Assistant Director of the Correctional Programs Division. Included are such records as division subject files, the executive assistant's program file, files relating to requests to wire an inmate for participation in a covert operation, and logs of telephone inquiries concerning specific inmates. Also included are electronic copies of documents created using electronic mail and word processing.

9. Department of State, United States Information Agency (N1-306-01-1, 29 items, 10 temporary items). Miscellaneous reports, library administration files, public comments on au pair regulations, pre-production photographic negatives, miscellaneous legal files, research files, general biographic files, aperture cards of newspaper articles, and general publications. These records were maintained in a “historical collection” by the now defunct United States Information Agency. Proposed for permanent retention are files relating to such matters as a study of the Fulbright Program, U.S. participation in expositions and exhibits, and the fiftieth anniversary of the Voice of America as well as such records as photographs, USIA publications, subject files, biographic files concerning USIA directors, and files accumulated by the Bureau of Programs and the Office of the General Counsel.

10. Environmental Protection Agency, Office of Inspector General (N1-412-01-9, 3 items, 3 temporary items). Investigative case files and related records including electronic copies of records created using electronic mail and word processing. Recordkeeping copies of case files relating to significant investigations were previously approved for permanent retention.

11. Environmental Protection Agency, Office of General Counsel (N1-412-01-13, 2 items, 2 temporary items). Board of Contract Appeals Case Files, including such records as legal notices, correspondence, pleadings, findings, briefs, motions, and final decisions. Also included are electronic copies of records created using electronic mail and word processing.

12. Environmental Protection Agency, Office of General Counsel (N1-412-01-14, 2 items, 2 temporary items). Case files relating to contract bid protests. Included are such records as protests, written memoranda of legal arguments, contracting officer statements, reports, and bidding documents. Also included are electronic copies of records created using electronic mail and word processing.

13. Social Security Administration, Agency-wide (N1-47-01-1, 6 items, 6 temporary items). Master files, inputs, outputs, and back-up files for an electronic system used to improve customer service in all programs by managing employee suggestions. Also included are electronic copies of records created using electronic mail and word processing.

14. Tennessee Valley Authority, Division of Research (N1-142-01-6, 4 items, 4 temporary items). Analytical reports relating to chemical and chemical engineering research. Included are x-ray, spectrographic, petrographic, and corrosion investigations for long-term research projects. Also included are electronic copies of documents created using electronic mail and word processing. This job increases the retention period for recordkeeping copies of reports relating to Department of Defense projects, which were previously approved for disposal.

Dated: September 10, 2001.
Michael J. Kurtz,
Assistant Archivist for Record Services—Washington, DC.

[FR Doc. 01-23306 Filed 9-18-01; 8:45 am]

BILLING CODE 7515-01-P